DEPARTMENT OF EDUCATION

Applications for New Awards; Comprehensive Centers Program

AGENCY: Office of Elementary and Secondary Education, Department of Education.

ACTION: Notice.

SUMMARY: The Department of Education (Department) is issuing a notice inviting applications for new awards for Fiscal Year (FY) 2019 for the Comprehensive Centers (CC) program, Catalog of Federal Domestic Assistance (CFDA) number 84.283B.

DATES:

Applications Available: April 4, 2019.

Deadline for Transmittal of Applications: May 24, 2019.

Deadline for Intergovernmental Review: July 23, 2019.

ADDRESSES: For the addresses for obtaining and submitting an application, please refer to our Common Instructions for Applicants to Department of Education Discretionary Grant Programs, published in the Federal Register on February 13, 2019 (84 FR 3768) and available at https://www.govinfo.gov/content/pkg/FR-2019-02-13/pdf/2019-02206.pdf.

FOR FURTHER INFORMATION CONTACT: Kim Okahara, U.S. Department of Education, 400 Maryland Avenue SW, Room 3E106, Washington, DC 20202-6450. Telephone: (202) 453-6930. Email: kim.okahara@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The CC program supports the establishment of not less than 20 Comprehensive Centers to provide capacity-building services to State educational agencies (SEAs), regional educational agencies (REAs), local educational agencies (LEAs), and schools that improve educational outcomes for all students, close achievement gaps, and improve the quality of instruction.

Priorities: The absolute priorities are from the notice of final priorities, requirements, definitions, and performance measures for this program (NFP), published elsewhere in this issue of the Federal Register. Competitive preference priority 1 for All Centers is from 34 CFR 75.225(c). Competitive preference priorities 2 through 6 are from the Secretary's Final Supplemental Priorities and Definitions for Discretionary Grant Programs published in the Federal Register on March 2, 2018 (83 FR 9096) (Supplemental Priorities) .

Absolute Priority: This competition contains an absolute priority for Regional Centers (Absolute Priority 1) and an absolute priority for the National Center (Absolute Priority 2). Under 34 CFR 75.105(c)(3), we consider only applications that meet one of these priorities.

Note: If an eligible entity wants to apply for funding for more than one Center, it must submit a separate application for each Center. In addition, the Department prefers that an eligible entity applies for either the National Center or one or more Regional Centers. The Department will, however, consider multiple applications from one entity applying for one or more Regional Centers and the National Center as long as the entity submits a separate application for each Center.

Note: If an applicant submits multiple applications that fall within the funding range, after review and comparison of those applications, the Department may choose not to fund all applications that propose using the same project personnel or providing duplicative services as other fundable applications.

These priorities are:

Absolute Priority 1—Regional Centers.

Under this priority, applicants must demonstrate the following—

Regional Centers must provide high-quality intensive capacity-building services to State clients and recipients to identify, implement, and sustain effective evidence-based (as defined in this notice) programs, practices, and interventions that support improved educator and student outcomes. As appropriate, capacity-building services must assist clients and recipients in: (1) Carrying out approved Consolidated State Plans approved under the Elementary and Secondary Education Act of 1965, as amended by the Every Student Succeeds Act of 2015 (ESEA) with preference given to the implementation and scaling up of evidence-based programs, practices, and interventions that directly benefit recipients that have disadvantaged students or high percentages or numbers of students from low-income families as referenced in Title I, Part A of the ESEA (ESEA secs. 1113(a)(5) and 1111(d)) and recipients that are implementing comprehensive support and improvement activities or targeted support and improvement activities as referenced in Title I, Part A of the ESEA (ESEA sec. 1111(d)); (2) implementing and scaling-up evidence-based programs, practices, and interventions that address the unique educational obstacles faced by rural populations; (3) identifying and carrying out capacity-building services to clients that help States address corrective actions or results from audit findings and monitoring, conducted by the Department, that are programmatic in nature, at the request of the client; and (4) working with the National Center to identify trends and best practices, and develop cost-effective strategies to make their work available to as many REAs, LEAs, and schools in need of support as possible.

Applicants must propose to operate a Regional Center in one of the following regions:

Region 1: Massachusetts, Maine, New Hampshire, Vermont

Region 2: Connecticut, New York, Rhode Island

Region 3: Puerto Rico, Virgin Islands

Region 4: Delaware, District of Columbia, Maryland, New Jersey, Pennsylvania

Region 5: Kentucky, Tennessee, Virginia, West Virginia

Region 6: Georgia, North Carolina, South Carolina

Region 7: Alabama, Florida, Mississippi

Region 8: Indiana, Michigan, Ohio

Region 9: Illinois, Iowa

Region 10: Minnesota, Wisconsin

Region 11: Nebraska, North Dakota, South Dakota, Wyoming

Region 12: Colorado, Kansas, Missouri

Region 13: Bureau of Indian Education, New Mexico, Oklahoma

Region 14: Arkansas, Louisiana, Texas

Region 15: Arizona, California, Nevada, Utah

Region 16: Alaska, Oregon, Washington

Region 17: Idaho, Montana

Region 18: Commonwealth of the Northern Mariana Islands, Federated States of Micronesia, Guam, Palau

Region 19: American Samoa, Hawaii, Republic of the Marshall Islands

Absolute Priority 2—National Center.

Under this priority, applicants must demonstrate the following—

The National Center must provide high-quality universal (e.g., policy briefs) and targeted (e.g., peer-to-peer exchanges and communities of practice that convene SEAs, REAs, LEAs, and schools on a particular topic) capacity-building services to address the following: Common high-leverage problems identified in Regional Center State service plans (as outlined in the Program Requirements for the National Center (1)), common services to help address findings from finalized Department monitoring reports or audit findings related to programmatic issues, common implementation challenges faced by States and Regional Centers, and emerging national education trends.

As appropriate, universal and targeted capacity-building services must assist Regional Center clients and recipients to: (1) Implement approved ESEA Consolidated State Plans, with preference given to implementing and scaling evidence-based programs, practices, and interventions that directly benefit entities that have high percentages or numbers of students from low-income families as referenced in Title I, Part A of the ESEA (ESEA sec. 1113(a)(5) and 1111(d)) and recipients that are implementing comprehensive support and improvement activities or targeted support and improvement activities as referenced in Title I, Part A of the ESEA (ESEA sec. 1111(d)); and (2) implement and scale evidence-based programs, practices, and interventions that address the unique educational obstacles faced by rural populations. The work of the National Center must include the implementation of effective strategies for reaching and supporting as many SEAs, REAs, LEAs, and schools in need of services as possible.

Competitive Preference Priorities: This competition contains seven competitive preference priorities: One for both Regional Centers and the National Center; three for Regional Centers; and three for the National Center. For FY 2019 and any subsequent year in which we make awards from the list of unfunded applications from this competition, these priorities are competitive preference priorities. Under 34 CFR 75.105(c)(2)(i) we award up to 3 additional points as indicated within each competitive preference priority, depending on how well the application addresses the priority, for a maximum of 12 competitive preference priority points to an application.

These priorities are:

Priorities for All Centers (0 or 3 points total):

Competitive Preference Priority 1—-Novice Applicants.

Projects submitted by applicants that meet the definition of novice applicant (as defined in this notice) at the time they submit their application. (0 or 3 points)

Priorities for Regional Centers (up to 9 points total):

Competitive Preference Priority 2—Promoting Effective Instruction in Classrooms and Schools (up to 6 points):

Projects that are designed to address the following priority areas:

(1) Promoting innovative strategies to increase the number of students who have access to effective principals or other school leaders in schools that will be served by the project. (up to 3 points)

(2) Promoting innovative strategies to increase the number of students who have access to effective educators in schools that will be served by the project. (up to 3 points)

Competitive Preference Priority 3— Empowering Families and Individuals To Choose a High-Quality Education That Meets Their Unique Needs (up to 3 points total):

Projects that are designed to increase access to educational choice (as defined in this notice) for one or both of the following groups of children or students:

(i) Children or students in communities served by rural LEAs (as defined in this notice).

(ii) Students who are living in poverty (as defined in this notice) and are served by high-poverty schools (as defined in this notice), or are low-income individuals (as defined in this notice).

Priorities for the National Center (up to 9 points total):

Competitive Preference Priority 4—Promoting Effective Instruction in Classrooms and Schools (up to 3 points total):

Projects that are designed to address increasing the opportunities for high-quality preparation of, or professional development for, teachers or other educators of science, technology, engineering, math, or computer science (as defined in this notice). (up to 3 points)

Competitive Preference Priority 5—Promoting Science, Technology, Engineering, or Math (STEM) Education, With a Particular Focus on Computer Science (up to 3 points total):

Projects designed to improve student achievement or other educational outcomes in one or more of the following areas: Science, technology, engineering, math, or computer science (as defined in this notice). These projects must address evidence-based (as defined in this notice) and innovative approaches to expanding access to high-quality STEM education, including computer science. (up to 3 points)

Competitive Preference Priority 6—Empowering Families and Individuals To Choose a High-Quality Education That Meets Their Unique Needs (up to 3 points total):

Projects that are designed to address developing or increasing access to evidence-based (as defined in this notice) innovative models of educational choice (as defined in this notice).

Note: The details and parameters of the Department's expectations and involvement will be included in the cooperative agreement with each grantee.

Requirements: These requirements are from the notice of final priorities, requirements, definitions, and performance measures for this program (NFP), published elsewhere in this issue of the Federal Register, and apply to the FY 2019 grant competition and any subsequent year in which we make awards from the list of unfunded applications from this competition.

Program Requirements for Regional Centers: Applicants that receive grants under this program must:

(1) Develop a State service plan annually in consultation with each State's Chief State School Officers (CSSO) that includes the following elements: High-leverage problems to be addressed, phase of implementation (e.g., needs assessment), capacity-building services to be delivered, key personnel responsible, key Department-funded technical assistance partners, milestones, outputs, outcomes, and, if appropriate, fidelity measures. The annual State service plans must be an update to the Regional Center's five-year plan submitted as part of the Regional Center's application. The annual State service plan elements must also correspond to the relevant sections of the FY 2019 CC Logic Model.

(2) Develop and implement an effective personnel management system that enables the Regional Center to efficiently obtain and retain the services of nationally recognized content experts and other consultants with direct experience working with SEAs, REAs, and LEAs. Personnel must demonstrate that they have the appropriate expertise to deliver quality, intensive services that meet client and recipient needs similar to those in the region to be served.

(3) Develop and implement an effective communications system that enables routine and ongoing exploration of client and recipient needs as well as feedback on services provided. The system must enable routine monitoring of progress toward agreed-upon outcomes, outputs, and milestones; periodic assessment of client satisfaction; and timely identification of changes in State contexts that may impact the success of the project. The communications system must include processes for outreach activities (e.g., regular promotion of services and products to clients and potential and current recipients, particularly at the local level), regular engagement and coordination with the National Center and partner organizations (e.g., other federally funded technical assistance providers), use of feedback loops across organizational levels (Federal, State, and local), and regular engagement of stakeholders involved in or impacted by proposed services.

(4) Collaborate with the National Center to support client and recipient participation in learning opportunities (e.g., multi-State and cross-regional peer-to-peer exchanges on high-leverage problems) and support participation of Regional Center staff in learning opportunities (e.g., peer-to-peer exchanges on effective coaching systems), with the goal of reaching as many REAs, LEAs, and schools in need of services as possible while also providing high-quality services.

(5) Identify and enter into partnership agreements with national organizations, businesses, and industry for the purpose of supporting States in the implementation and scaling-up of evidence-based programs, practices, and interventions, as well as reducing duplication of services to States. Within 90 days of receiving funding for an award, provide copies of memoranda of understanding (MOUs) with the Regional Educational Laboratories (RELs) in the region that the Center serves and Department-funded technical assistance providers that are charged with supporting comprehensive, systemic changes in States or Department-funded technical assistance providers with particular expertise (e.g., early learning or instruction for English language learners).

(6) Be located in the region the Center serves. The Project Director must be capable of managing all aspects of the Center and be either at minimum 0.75 FTE or there must be two Co-Project Directors each at minimum 0.5 FTE. The Project Director or Co-Project Directors and key personnel must also be able to provide on-site services at the intensity, duration, and modality appropriate to achieving agreed-upon milestones, outputs, and outcomes described in State service plans.

(7) Within 90 days of receiving funding for an award, demonstrate that it has secured client and partner commitments to carry out proposed State service plans.

Program Requirements for the National Center:

(1) Develop a national service plan annually in consultation with the Department and Regional Centers. The national service plan must take into account commonalities in identified high-leverage problems in State service plans, finalized Department monitoring and audit findings, implementation challenges faced by Regional Centers and States, and emerging national education trends. The annual national service plan must be an update to the National Center's five-year plan submitted as part of the Center's application. The annual national service plan must include, at a minimum, the following elements: High-leverage problems to be addressed, capacity-building services to be delivered, key personnel responsible, milestones, outputs, and outcome measures. The annual national service plan must also include evidence that the Center involved Regional Centers in identifying targeted and universal services that complement Regional Center services to improve client and recipient capacity.

(2) Maintain the CC network website with an easy-to-navigate design that meets government or industry-recognized standards for accessibility.

(3) Develop and implement an effective personnel management system that enables the Center to retain and efficiently obtain the services of education practitioners, researchers, policy professionals, and other consultants with direct experience with SEAs, REAs, and LEAs. Personnel must have a proven record of publishing in peer-reviewed journals, presenting at national conferences, and/or delivering quality adult learning experiences that meet client and recipient needs.

(4) Disseminate information (e.g., instructional videos, toolkits, and briefs) and evidence-based practices to a variety of education stakeholders, including parents, students, and the general public, via multiple mechanisms such as the CC network website, social media, and other channels as appropriate.

(5) Disseminate State service plans, Center annual performance reports, and other materials through the CC network website and other channels as appropriate.

(6) Collaborate with Regional Centers to implement learning opportunities for recipients (e.g., multi-State and cross-regional peer-to-peer exchanges on high-leverage problems) and develop learning opportunities for Regional Center staff to address implementation challenges (e.g., peer-to-peer exchanges on effective coaching systems for district English language learners).

(7) Develop and implement an effective communications system that enables routine and ongoing exploration of Regional Center client and recipient needs. The system must enable routine monitoring of progress toward agreed-upon outcomes, outputs, and milestones; periodic assessment of client satisfaction; and timely identification of changes in Federal or State contexts that may impact success of the project. The communications system must include processes for outreach activities (e.g., regular promotion of services and products to clients and potential and current recipients), use of feedback loops across organizational levels (Federal, State, and local), regular engagement and coordination with the Department, Regional Centers, and partner organizations (e.g., federally funded technical assistance providers), and engagement of stakeholders involved in or impacted by proposed school improvement activities.

(8) Identify potential partners and enter into partnership agreements with other federally funded technical assistance providers, industry, national associations, and other organizations to support the implementation and scaling-up of evidence-based programs, practices, and interventions.

(9) Identify a Project Director that is either at minimum 0.75 FTE or two Co-Project Directors at minimum 0.5 FTE capable of managing all aspects of the CC.

(10) Within 90 days of receiving funding for an award, demonstrate that it has secured client and partner commitments to carry out the proposed national service plan.

Flexibility and Requirements for Regional Center Assignments:

Requirements. In the second fiscal year of the cooperative agreement, and in each subsequent fiscal year, an SEA could indicate to the Department its desire to affiliate with a different Regional Center, regardless of the geographic location of that Center. A State could exercise this option only once in any two-year period.

To exercise this option, a State must notify the Department in writing, not later than six months prior to the end of the fiscal year, that it wishes to affiliate with a different Regional Center noting the specific reasons for requesting reassignment. The Department will notify the current Regional Center immediately after receiving the request for reassignment. In order to allow time for the grantee to address quality-of-service issues and for the Department to evaluate whether reassignment is in the best interest of the program, the Department will provide the State's current Regional Center a specified period of time to address the concerns articulated by the State before the Department considers the State request. The State must provide—

(1) Documentation from the proposed Regional Center with which it wants to affiliate that indicates the Center's willingness and capacity to serve the additional State; and

(2) Other pertinent information that the Department requests.

After considering the documentation and other information, the Department could approve a request if it is consistent with the requirements in section 203(a) of ETAA that (1) there be no fewer than 20 CCs and (2) at least one CC must be established in each of the 10 geographic regions served by the Regional Educational Laboratories established under section 941(h) of the Educational Research, Development, Dissemination, and Improvement Act of 1994. If the Department approves the request, the Department will re-designate regions served by each Regional Center to reflect any changes in regional membership. The Department will re-allocate the funding to each center, taking into account changes in the number of students served by each Regional Center and other such factors it deems appropriate. The Department will provide notification of any changes through a notice published in the Federal Register.

Application Requirements: Each application must contain a plan that includes the following:

All Centers:

(1) Present applicable State, regional, and local data demonstrating the current needs related to building capacity to implement and scale up evidence-based programs, practices, and interventions. Reference, as appropriate, information related to the Department's finalized monitoring and audit findings.

(2) Demonstrate expert knowledge of statutory requirements, regulations, and policies related to programs authorized under ESEA and current education issues and policy initiatives for supporting the implementation and scaling up of evidence-based programs, practices, and interventions.

(3) Consistent with the priorities and requirements for this program, demonstrate expertise and experience in the following areas:

(i) Managing budgets; selecting, coordinating, and overseeing multiple consultant and sub-contractor teams; and leading large-scale projects to deliver tools, training, and other services to governments, agencies, communities, businesses, schools, or other organizations.

(ii) Designing and implementing performance management processes with staff, subcontractors, and consultants that enable effective hiring, developing, supervising, and retaining a team of subject-matter experts and professional staff.

(iii) Identifying problems and conducting root-cause analysis; developing and implementing logic models, organizational assessments, strategic plans, and process improvements; and sustaining the use of evidence-based programs, practices, and interventions.

(iv) Monitoring and evaluating activities, including, but not limited to: Compiling data, conducting interviews, developing tools to enhance capacity-building approaches, conducting data analysis using statistical software, interpreting results from data using widely acceptable quantitative and qualitative methods, and developing evaluation reports.

(4) Describe the current research on adult learning principles, coaching, and implementation science that will inform the applicant's capacity-building services, including how the applicant will promote self-sufficiency and sustainability of State-led school improvement activities.

(5) Present a proposed communications plan for working with appropriate levels of the education system (e.g., SEAs, REAs, LEAs, and/or schools) to ensure there is communication between each level and that there are processes in place to support, and continuously assess, the implementation of evidence-based programs, practices, and interventions. The applicant must describe how it will engage in meaningful consultation with a broad range of stakeholders (e.g., principals, teachers, families, community members, etc.). The ideal applicant will propose effective strategies for receiving ongoing and timely input on the needs of its clients and the usefulness of its services and describe how it will continuously cultivate in-person relationships with clients, recipients, and partners that are knowledgeable of the identified needs for that region.

(6) Present a proposed evaluation plan for the project. The evaluation plan must describe the criteria for determining the extent to which: Milestones were met; outputs were met; recipient outcomes (short-term, mid-term, and long-term) were met; and capacity-building services proposed in State service plans were implemented as intended.

(7) Present a logic model informed by research or evaluation findings that demonstrates a rationale (as defined in this notice) explaining how the project is likely to improve or achieve relevant and expected outcomes. This logic model must align with the FY 2019 CC Logic Model, communicate how the project will achieve its expected outcomes (short-term, mid-term, and long-term) and provide a framework for both the formative and summative evaluations of the project consistent with the applicant's evaluation plan. Include a description of underlying concepts, assumptions, expectations, beliefs, and theories, as well as the relationships and linkages among these variables, and any empirical support for this framework.

(8) Include an assurance that, if awarded a grant, the applicant will assist the Department with the transfer of pertinent resources and products, and maintain the continuity of services to States during the transition to this new award period, as appropriate, including by working with the FY 2012 Comprehensive Center on Building State Capacity and Productivity to migrate products, resources, and other relevant project information to the National Center's Comprehensive Center network website.

Regional Centers:

In addition to meeting the Application Requirements for all Centers, a Regional Center applicant must—

(1) Describe the proposed approach to intensive capacity-building services, including identification of intended recipients and alignment of proposed capacity-building services to meet client needs. The applicant must also describe how it intends to measure the readiness of clients and recipients to work with the applicant; measure client and recipient capacity across the four capacity-building dimensions, including available resources; and measure the ability of the client and recipients to build capacity at the local level.

National Center:

In addition to meeting the application requirements for all Centers, a National Center applicant must—

(1) Demonstrate expertise and experience in leading digital engagement strategies to attract and sustain involvement of education stakeholders, including, but not limited to: Implementing a robust web and social media presence, overseeing customer relations management, providing editorial support, and collecting and analyzing web analytics.

(2) Describe the intended recipients of and the proposed approach to targeted capacity-building services, including how the applicant intends to: Collaborate with Regional Centers to identify potential recipients and how many it has the capacity to reach; measure the readiness and capacity of potential recipients across the four dimensions of capacity-building services; and continuously engage potential recipients over the five-year period.

(3) Describe the intended recipients of and the proposed approach to universal capacity-building services, including how many recipients it plans to reach and how the applicant intends to: Measure the quality of the products and services developed to address common high-leverage problems; support recipients in the selection, implementation, and monitoring of evidence-based practices and interventions; and improve knowledge of emerging national education trends.

Definitions: For FY 2019 and any subsequent year in which we make awards from the list of unfunded applications from this competition, the following definitions apply. The definitions of “capacity-building services,” “intensive capacity-building services,” “targeted capacity-building services,” “universal capacity-building services,” “human capacity,” “organizational capacity,” “policy capacity,” “resource capacity,” “high-leverage problems,” “milestone,” “outcomes,” “outputs,” “regional educational agency,” and “service plan project” are from the NFP. The definitions of “computer science,” “evidence-based,” “educational choice,” “high-poverty school,” and “rural local educational agency” are from the Supplemental Priorities. The definitions of “demonstrates a rationale,” and “relevant outcomes” are from 34 CFR 77.1. The definition of “novice applicant” is from 34 CFR 75.225. The definitions of “dual or concurrent enrollment program” (section 8101(15)), “early college high schools” (section 8101(17)), and “living in poverty” (section 1113(a)(5)(A)) are from the ESEA. The definition of “low income individual” is from section 312(g) of the Higher Education Act of 1965, as amended.

These definitions are:

Capacity-building services means assistance that strengthens an individual's or organization's ability to engage in continuous improvement and achieve expected outcomes.

The four dimensions of capacity-building services are:

(1) Human capacity means development or improvement of individual knowledge, skills, technical expertise, and ability to adapt and be resilient to policy and leadership changes.

(2) Organizational capacity means structures that support clear communication and a shared understanding of an organization's visions and goals, and delineated individual roles and responsibilities in functional areas.

(3) Policy capacity means structures that support alignment, differentiation, or enactment of local, State, and Federal policies and initiatives.

(4) Resource capacity means tangible materials and assets that support alignment and use of Federal, State, private, and local funds.

The three tiers of capacity-building services are:

(1) Intensive means assistance often provided on-site and requiring a stable, ongoing relationship between the Regional Center and its clients and recipients, as well as periodic reflection, continuous feedback, and use of evidence-based improvement strategies. This category of capacity-building services should support increased recipient capacity in more than one capacity dimension and result in medium-term and long-term outcomes at one or more system levels.

(2) Targeted means assistance based on needs common to multiple clients and recipients and not extensively individualized. A relationship is established between the recipient(s), the National Center, and Regional Center(s) as appropriate. This category of capacity-building services includes one-time, labor-intensive events, such as facilitating strategic planning or hosting national or regional conferences. It can also include less labor-intensive events that extend over a period of time, such as facilitating a series of conference calls on single or multiple topics that are designed around the needs of the recipients. Facilitating communities of practice can also be considered targeted capacity-building services.

(3) Universal means assistance and information provided to independent users through their own initiative, involving minimal interaction with National Center staff and including one-time, invited or offered conference presentations by National Center staff. This category of capacity-building services also includes information or products, such as newsletters, guidebooks, policy briefs, or research syntheses, downloaded from the Center's website by independent users. Brief communications by National Center staff with recipients, either by telephone or email, are also considered universal services.

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Demonstrates a rationale means a key project component included in the project's logic model is informed by research or evaluation findings that suggest the project component is likely to improve relevant outcomes.

Dual or concurrent enrollment program means a program offered by a partnership between at least one institution of higher education (IHE) and at least one LEA through which a secondary school student who has not graduated from high school with a regular high school diploma is able to enroll in one or more postsecondary courses and earn postsecondary credit that—

(1) Is transferable to the IHEs in the partnership; and

(2) Applies toward completion of a degree or recognized educational credential as described in the Higher Education Act of 1965 (20 U.S.C. 1001 et seq.).

Early college high school means a partnership between at least one LEA and at least one IHE that allows participants to simultaneously complete requirements toward earning a regular high school diploma and earn not less than 12 credits that are transferable to the IHEs in the partnership as part of an organized course of study toward a postsecondary degree or credential at no cost to the participant or participant's family.

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include one or more of the options listed below:

(1) Public educational programs or courses including those offered by traditional public schools, public charter schools, public magnet schools, public online education providers, or other public education providers.

(2) Private or home-based educational programs or courses including those offered by private schools, private online providers, private tutoring providers, community or faith-based organizations, or other private education providers.

(3) Internships, apprenticeships, or other programs offering access to learning in the workplace.

(4) Part-time coursework or career preparation, offered by a public or private provider in person or through the internet or another form of distance learning, that serves as a supplement to full-time enrollment at an educational institution, as a stand-alone program leading to a credential, or as a supplement to education received in a homeschool setting.

(5) Dual or concurrent enrollment programs (as defined in this notice) or early college high schools (as defined in this notice), or other programs that enable secondary school students to begin earning credit toward a postsecondary degree or credential prior to high school graduation.

(6) Access to services or programs for aspiring or current postsecondary students not offered by the institution in which they are currently enrolled to support retention and graduation.

(7) Other educational services including credit-recovery, accelerated learning, or tutoring.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

High-leverage problems means problems that (1) if addressed could result in substantial improvements for many students or for key subgroups of students as defined in ESEA section 1111(c) and (d); (2) are priorities for education policymakers, particularly at the State level; and (3) require intensive capacity-building services to achieve outcomes that address the problem.

High-poverty school means a school in which at least 50 percent of students are from low-income families as determined using one of the measures of poverty specified under section 1113(a)(5) of the ESEA. For middle and high schools, eligibility may be calculated on the basis of comparable data from feeder schools. Eligibility as a high-poverty school under this definition is determined on the basis of the most currently available data.

Living in poverty means (1) except as provided in paragraph (2), an LEA shall use the same measure of poverty, which measure shall be the number of children aged 5 through 17 in poverty counted in the most recent census data approved by the Secretary, the number of children eligible for a free or reduced price lunch under the Richard B. Russell National School Lunch Act (42 U.S.C. 1751 et seq.), the number of children in families receiving assistance under the State program funded under part A of title IV of the Social Security Act, or the number of children eligible to receive medical assistance under the Medicaid Program, or a composite of such indicators, with respect to all school attendance areas in the LEA—

(i) To identify eligible school attendance areas;

(ii) To determine the ranking of each area; and

(iii) To determine allocations under paragraph (3).

(2) For measuring the number of students in low-income families in secondary schools, the LEA shall use the same measure of poverty, which shall be—

(i) The measure described under paragraph (1); or

(ii) Subject to meeting the conditions of paragraph (3), an accurate estimate of the number of students in low-income families in a secondary school that is calculated by applying the average percentage of students in low-income families of the elementary school attendance areas as calculated under paragraph (1) that feed into the secondary school to the number of students enrolled in such school.

(3) The LEA shall have the option to use the measure of poverty described in paragraph (2)(ii) after—

(i) Conducting outreach to secondary schools within such agency to inform such schools of the option to use such measure; and

(ii) A majority of such schools have approved the use of such measure.

Logic model (also referred to as a theory of action) means a framework that identifies key project components of the proposed project (i.e., the active “ingredients” that are hypothesized to be critical to achieving the relevant outcomes) and describes the theoretical and operational relationships among the key project components and relevant outcomes.

Low-income individual means an individual from a family whose taxable income for the preceding year did not exceed 150 percent of an amount equal to the poverty level determined by using criteria of poverty established by the Bureau of the Census.

Milestone means an activity that must be completed. Examples include: identifying key district administrators responsible for professional development, sharing key observations from needs assessment with district administrators and identified stakeholders, preparing a logic model, planning for State-wide professional development, identifying subject matter experts, and conducting train-the-trainer sessions.

Moderate evidence means that there is evidence of effectiveness of a key project component in improving a relevant outcome for a sample that overlaps with the populations or settings proposed to receive that component, based on a relevant finding from one of the following:

(i) A practice guide prepared by the WWC using version 2.1 or 3.0 of the WWC Handbook reporting a “strong evidence base” or “moderate evidence base” for the corresponding practice guide recommendation;

(ii) An intervention report prepared by the WWC using version 2.1 or 3.0 of the WWC Handbook reporting a “positive effect” or “potentially positive effect” on a relevant outcome based on a “medium to large” extent of evidence, with no reporting of a “negative effect” or “potentially negative effect” on a relevant outcome; or

(iii) A single experimental study or quasi-experimental design study reviewed and reported by the WWC using version 2.1 or 3.0 of the WWC Handbook, or otherwise assessed by the Department using version 3.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

Novice applicant means—

(a)(1) Any applicant for a grant from the Department that—

(i) Has never received a grant or subgrant under the program from which it seeks funding;

(ii) Has never been a member of a group application, submitted in accordance with 34 CFR 75.127-75.129, that received a grant under the program from which it seeks funding; and

(iii) Has not had an active discretionary grant from the Federal Government in the five years before the deadline date for applications under the program.

(2) In the case of a group application submitted in accordance with 34 CFR 75.127-75.129, a group that includes only parties that meet the requirements of this definition.

(b) For the purposes of paragraph (a)(1)(iii) of this definition, a grant is active until the end of the grant's project or funding period, including any extensions of those periods that extend the grantee's authority to obligate funds.

Outcomes means effects of receiving capacity-building services. Examples include: 95 percent of district administrators reported increased knowledge; two districts reported improved cross-agency coordination; and three districts reported identification of 2.0 FTE responsible for professional development.

(1) Short-term outcomes means effects of receiving capacity-building services after 1 year consistent with the FY 2019 CC Logic Model.

(2) Medium-term outcomes means effects of receiving capacity-building services after 2 to 3 years consistent with the FY 2019 CC Logic Model.

(3) Long-term outcomes means effects of receiving capacity-building services after 4 or more years consistent with the FY 2019 CC Logic Model.

Outputs means products and services that must be completed. Examples include: Needs assessment, logic model, training modules, evaluation plan, and 12 workshop presentations.

Note: A product output under this program would be considered a deliverable under the open licensing regulations at 2 CFR 3474.20.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Regional educational agency, for the purposes of the Comprehensive Centers program, means “Tribal Educational Agency” as defined in ESEA section 6132(b)(3), as well as other educational agencies that serve regional areas.

Relevant outcome means the student outcome(s) or other outcome(s) the key project component is designed to improve, consistent with the specific goals of the program.

Rural local educational agency means an LEA that is eligible under the Small Rural School Achievement (SRSA) program or the Rural and Low-Income School (RLIS) program authorized under Title V, Part B of the ESEA. Eligible applicants may determine whether a particular district is eligible for these programs by referring to information on the Department's website at www2.ed.gov/nclb/freedom/local/reap.html.

Service plan project means a series of interconnected capacity-building services designed to achieve recipient outcomes and outputs. A service plan project includes, but is not limited to, a well-defined high-leverage problem, an approach to capacity-building services, intended recipients, key personnel, expected outcomes, expected outputs, and milestones.

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Program Authority: Section 203 of the Educational Technical Assistance Act of 2002 (ETAA) (20 U.S.C. 9601 et seq.).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR part 299. (e) The NFP. (f) The Supplemental Priorities. (g) The notice of final priorities, requirements, and selection criteria-Comprehensive Centers Program, published in the Federal Register on June 6, 2012 (77 FR 33573).

Note: The regulations in 34 CFR part 86 apply to IHEs only.

II. Award Information

Type of Award: Cooperative agreement.

Estimated Available Funds: $50,000,000.

All of the 20 Centers proposed for funding under this competition will be supported entirely with funds from the CC program, authorized under the ETAA. The total amount of funds available for the CC program for FY 2019 is $52 million. Of that amount, an estimated $45 million will be used to fund Regional Centers and an estimated $5 million will be used to fund the National Center. FY 2019 funds will support awards for the first budget period of the project, which is the first 12 months of the project period. Funding for the subsequent budget periods of years two through five (FY 2020 through FY 2023) is contingent on appropriation levels.

Contingent upon the availability of funds and the quality of applications, we may make additional awards in subsequent years from the list of unfunded applications from this competition.

Estimated Range of Awards: For Regional Centers: $1,000,000 to $6,472,657.

Region 01 | $1,000,000.00
Region 02 | 2,360,643.00
Region 03 | 1,000,000.00
Region 04 | 2,557,246.00
Region 05 | 2,444,035.00
Region 06 | 3,215,377.00
Region 07 | 3,378,769.00
Region 08 | 3,212,089.00
Region 09 | 1,722,122.00
Region 10 | 1,302,938.00
Region 11 | 1,243,525.00
Region 12 | 1,963,421.00
Region 13 ¹ | 1,647,431.00
Region 14 | 5,413,470.00
Region 15 | 6,472,657.00
Region 16 | 3,316,771.00
Region 17 | 1,000,000.00
Region 18 | 1,000,000.00
Region 19 | 1,000,000.00
¹ Estimate includes $400,000 to support the Bureau of Indian Education.

For the National Center: $4,000,000 to $6,000,000.

National Center | $5,000,000.00

Estimated Number of Awards: 20. The Secretary intends to support 20 awards under this competition. Nineteen awards will support Regional Centers to serve States within defined geographic boundaries. One award will support the National Center.

Note: The Department is not bound by any estimates in this notice.

Project Period: Up to 60 months.

III. Eligibility Information

1. Eligible Applicants: Research organizations, institutions, agencies, IHEs, or partnerships among such entities, or individuals, with the demonstrated ability or capacity to carry out the activities described in this notice, including regional entities that carried out activities under the Educational Research, Development, Dissemination, and Improvement Act of 1994 (as such Act existed on the day before November 5, 2002) and title XIII of the Elementary and Secondary Education Act of 1965 (as such title existed on the day before January 8, 2002). Letters of support do not meet the requirement for a consortium agreement.

2. Cost Sharing or Matching: This program does not require cost sharing or matching.

3. Subgrantees: A grantee under this competition may award subgrants to entities to directly carry out project activities described in its application.

4. Administrative Direction and Control: Administrative direction and control over grant funds must remain with the grantee.

5. Limitation on Applications: An application must respond to either Priority 1—Regional Centers or Priority 2—National Center.

IV. Application and Submission Information

1. Application Submission Instructions: Applicants are required to follow the Common Instructions for Applicants to Department of Education Discretionary Grant Programs, published in the Federal Register on February 13, 2019 (84 FR 3768) and available at https://www.govinfo.gov/content/pkg/FR-2019-02-13/pdf/2019-02206.pdf, which contain requirements and information on how to submit an application.

2. Content and Form of Applications: Requirements concerning the content of an application, together with the forms you must submit, are in the application package for this program.

Recommended Page Limit: The application narrative is where you, the applicant, address the selection criteria that reviewers use to evaluate your application. We encourage you to (1) limit the narrative to no more than 100 pages and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10.

• Use one of the following fonts: Times New Roman, Courier, Courier New, or Arial.

The recommended page limit does not apply to the coversheet, budget information, resumes, assurances and certifications, or letters of support.

2. Intergovernmental Review: This competition is subject to Executive Order 12372 and the regulations in 34 CFR part 79. Information about Intergovernmental Review of Federal Programs under Executive Order 12372 is in the application package for this competition.

V. Application Review Information

1. Selection Criteria: The selection criteria for this program are from 34 CFR 75.210. The maximum score for all selection criteria is 100 points. The points or weights assigned to each criterion are indicated in parentheses. Non-Federal peer reviewers will review each application and will evaluate and score each program narrative against the following selection criteria for each priority:

Priority One (Regional Centers) Selection Criteria:

(a) Significance

(1) The Secretary considers the significance of the proposed project.

(2) In determining the significance of the proposed project, the Secretary considers the likelihood that the proposed project will result in system change or improvement. (20 points)

(b) Quality of the Project Design

(1) The Secretary considers the quality of the design of the proposed project.

(2) In determining the quality of the design of the proposed project, the Secretary considers the following factors:

(i) The extent to which there is a conceptual framework underlying the proposed research or demonstration activities and the quality of that framework. (5 points)

(ii) The extent to which the proposed project will integrate with or build on similar or related efforts to improve relevant outcomes (as defined in this notice), using existing funding streams from other programs or policies supported by community, State, and Federal resources. (10 points)

(iii) The extent to which the services to be provided by the proposed project involve the collaboration of appropriate partners for maximizing the effectiveness of project services. (5 points)

(c) Quality of Project Personnel

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator. (20 points)

(ii) The qualifications, including relevant training and experience, of key project personnel. (20 points)

(d) Quality of the Project Evaluation

(1) The Secretary considers the quality of the evaluation to be conducted of the proposed project.

(2) In determining the quality of the evaluation, the Secretary considers the following factors:

(i) The adequacy of procedures for ensuring feedback and continuous improvement in the operation of the proposed project. (10 points)

(ii) The extent to which the methods of evaluation include the use of objective performance measures that are clearly related to the intended outcomes of the project and will produce quantitative and qualitative data to the extent possible. (10 points)

Priority Two (National Center) Selection Criteria:

(a) Significance

(1) The Secretary considers the significance of the proposed project.

(2) In determining the significance of the proposed project, the Secretary considers the following factors:

(i) The potential contribution of the proposed project to increased knowledge or understanding of educational problems, issues, or effective strategies. (10 points)

(ii) The extent to which the services to be provided by the proposed project reflect up-to-date knowledge from research and effective practice. (10 points)

(b) Quality of Project Design

(1) The Secretary considers the quality of the design of the proposed project.

(2) In determining the quality of the design of the proposed project, the Secretary considers the following factors:

(i) The extent to which there is a conceptual framework underlying the proposed research or demonstration activities and the quality of that framework. (5 points)

(ii) The extent to which the proposed project will integrate with or build on similar or related efforts to improve relevant outcomes (as defined in this notice), using existing funding streams from other programs or policies supported by community, State, and Federal resources. (10 points)

(iii) The extent to which the services to be provided by the proposed project involve the collaboration of appropriate partners for maximizing the effectiveness of project services. (5 points)

(c) Quality of Project Personnel

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator. (20 points)

(ii) The qualifications, including relevant training and experience, of key project personnel. (10 points)

(iii) The qualifications, including relevant training and experience, of project consultants or subcontractors. (10 points)

(d) Quality of the Project Evaluation

(1) The Secretary considers the quality of the evaluation to be conducted of the proposed project.

(2) In determining the quality of the evaluation, the Secretary considers the following factors:

(i) The adequacy of procedures for ensuring feedback and continuous improvement in the operation of the proposed project. (10 points)

(ii) The extent to which the methods of evaluation include the use of objective performance measures that are clearly related to the intended outcomes of the project and will produce quantitative and qualitative data to the extent possible. (10 points)

Geographic distribution: The ETAA (20 U.S.C. 9602(a)(2)(A)) requires that the Secretary must ensure that not less than one Comprehensive Center is established in each of the 10 geographic regions served by the Regional Educational Laboratories. The Secretary will consider the location of the proposed Regional Centers in the selection and negotiation of cooperative agreements to ensure that this requirement of the law is met.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Note: Consistent with 2 CFR 200.315(b) and other applicable law, the Department may make reports, deliverables, outputs, or materials produced by Comprehensive Centers publicly available. This may include the Comprehensive Centers disseminating reports, deliverables, outputs, or materials to a wide audience (e.g., through their websites, social media, or other public-facing channels).

5. Performance Measures: Under the Government Performance and Results Act of 1993 (GPRA), the following measures will be used by the Department to evaluate the effectiveness of each Center, as well as the CC program as a whole:

Measure 1: The extent to which Comprehensive Center clients are satisfied with the quality, usefulness, and relevance of services provided.

Measure 2: The extent to which Comprehensive Centers provide services and products to a wide range of recipients.

Measure 3: The extent to which Comprehensive Centers demonstrate that capacity-building services were implemented as intended.

Measure 4: The extent to which Comprehensive Centers demonstrate recipient outcomes were met.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: April 1, 2019.
Frank Brogan,
Assistant Secretary of Elementary and Secondary Education.

[FR Doc. 2019-06582 Filed 4-3-19; 8:45 am]

BILLING CODE 4000-01-P